DEPARTMENT OF DEFENSE

Office of the Secretary

Department of Defense Wage Committee Meetings

AGENCY: Civilian Personnel Management Service (Wage and Salary Division), DoD.

ACTION: Notice of closed meetings.

SUMMARY: Pursuant to the provisions of section 10 of Public Law 92-463, the Federal Advisory Committee Act, notice is hereby given that the Department of Defense Wage Committee will meet in closed session on January 12 and 26, February 23, and March 9 and 23, 2010. During those meetings the Committee will receive, review, and consider wage survey specifications, wage survey data, local wage survey committee reports and recommendations, and wage schedules derived therefrom.

DATES: The meetings will begin at 10 a.m. on Tuesday, January 12 and 26, February 23, and March 9 and 23, 2010.

ADDRESSES: The meetings will be held at 1400 Key Boulevard, Level A, Room A101, Rosslyn, Virginia 22209.

FOR FURTHER INFORMATION CONTACT: Mr. Craig Jerabek, Designated Federal Officer for the Department of Defense Wage Committee; 1400 Key Boulevard, Suite A105, Arlington, Virginia 22209-5144, telephone: (703) 696-1735, fax: (703) 696-5472, or e-mail: craig.jerabek@cpms.osd.mil.

SUPPLEMENTARY INFORMATION: Under the provisions of section 10(d) of the Federal Advisory Committee Act of 1972, Public Law 92-463, it is hereby determined that every Wage Committee meeting concerns matters listed in 5 U.S.C. 552b(c)(2) and 5 U.S.C. 552b(c)(4), and that, accordingly, the meetings will be closed to the public.

However, members of the public who wish to do so are invited to submit material in writing to the chairman concerning matters believed to be deserving of the Committee's attention. Additional information concerning the meetings may be obtained by writing the chairman at: Chairman, Department of Defense Wage Committee, 4000 Defense Pentagon, Washington, DC 20301-4000.

The Division was unable to finalize its agenda in time to publish notice of its January 12th meeting in the Federal Register for the 15 calendar days required by 41 CFR 102-3.150(a). In order to meet legal effective dates, the meeting date cannot be changed. Accordingly, the Committee Management Officer for the Department of Defense, pursuant to 41 CFR 102-3.150(b), waives the 15-calendar day notification requirement.

Dated: December 29, 2009.
Mitchell S. Bryman,
Alternate OSD Federal Register Liaison Officer, Department of Defense.

[FR Doc. E9-31180 Filed 12-31-09; 8:45 am]

BILLING CODE 5001-06-P